DEPARTMENT OF ENERGY

Federal Energy Regulatory Commission

[Docket No. EC02-111-000, et al.]

Concord Electric Company, et al.; Electric Rate and Corporate Regulation Filings

September 19, 2002.

The following filings have been made with the Commission. The filings are listed in ascending order within each docket classification.

1. Concord Electric Company, Exeter & Hampton Electric Company, Unitil Energy Systems, Inc.

[Docket No. EC02-111-000]

Take notice that on August 30, 2002, Concord Electric Company, Exeter & Hampton Electric Company, and Unitil Energy Systems, Inc., filed with the Federal Energy Regulatory Commission (Commission) an application pursuant to section 203 of the Federal Power Act and 18 CFR part 33 for authorization of an intra-corporate reorganization. The proposed Reorganization involves the merger of Exeter & Hampton Electric Company into Concord Electric Company to form a single distribution company, which will be renamed Unitil Energy Systems, Inc.

Comment Date: October 4, 2002.

2. Choctaw Generation Limited Partnership

[Docket No. EC02-116-000]

Take notice that on September 10, 2002, Choctaw Generation Limited Partnership (Applicant) filed with the Federal Energy Regulatory Commission (Commission) an application pursuant to Section 203 of the Federal Power Act for authorization to transfer certain jurisdictional facilities to one or more special purpose limited liability companies for the purposes of a sale-leaseback financing involving the Red Hills Generating Facility (Facility), a 440 MW (net) facility located in Choctaw County, Mississippi. Applicant also requests that the Commission disclaim jurisdiction under the FPA with respect to the passive owner/lessor that will assume ownership of the Facility for financing purposes only.

Comment Date: October 1, 2002.

3. SE Choctaw, L.L.C.

[Docket No. EG02-186-000]

Take notice that on September 13, 2002, SE Choctaw, L.L.C. (the Applicant), 270 Peachtree Street, NW., Atlanta, GA 30303, filed with the Federal Energy Regulatory Commission (Commission) an application for determination of exempt wholesale generator status pursuant to Part 365 of the Commission's regulations.

The Applicant is a Delaware limited liability company who states it is engaged directly, or indirectly through one or more affiliates as defined in section 2(a)(11)(B) of PUHCA, and exclusively in the business of owning or operating, or both owning and operating, all or part of one or more eligible facilities and selling electric energy at wholesale.

The Applicant also states it will engage in a sale-leaseback of a 440-MW lignite-fired electric generating plant located in Choctaw County, Mississippi (the “Facility”), with Choctaw Generation Limited Partnership, an EWG formed to own and operate the Facility. The Applicant will be a passive investor without any control or decision-making authority over the Facility.

Comment Date: October 2, 2002.

4. Oswego Harbor Power LLC

[Docket No. ER99-3637-001]

Take notice that on September 16, 2002, Oswego Harbor Power LLC tendered for filing its triennial review in compliance with the Commission's order in Oswego Harbor Power, LLC, Docket No. ER99-3637-000.

Comment Date: October 7, 2002.

5. ANP Bellingham Energy Company, LLC, ANP Blackstone Energy Company, LLC, ANP Funding I, LLC, ANP Marketing Company, Milford Power Limited Partnership

[Docket Nos. ER00-2117-001, ER00-2118-001, ER00-3751-001, ER00-1828-001, and ER93-493-014 (Not Consolidated)]

Take notice that on September 17, 2002, ANP Bellingham Energy Company, LLC, ANP Blackstone Energy Company, LLC, ANP Funding I, LLC, ANP Marketing Company and Milford Power Limited Partnership tendered for filing a triennial market power update in support of the continuation of their existing authority to sell power at market-based rates.

Comment Date: October 8, 2002

6. Appalachian Power Company

[Docket No. ER01-3122-002]

Take notice that on September 16, 2002, the American Electric Power Service Corporation (AEPSC) tendered for filing in compliance with the Letter Order issued in this Docket on May 6, 2002, as amended executed Interconnection and Operation Agreement between Appalachian Power Company and Duke Energy Wythe, LLC. The agreement is pursuant to the AEP Companies' Open Access Transmission Service Tariff (OATT) that has been designated as the Operating Companies of the American Electric Power System FERC Electric Tariff Second Revised Volume No. 6, effective June 15, 2000.

AEP requests an effective date of November 26, 2001. A copy of the filing was served upon the Virginia State Corporation Commission.

Comment Date: October 7, 2002.

7. Midwest Independent Transmission System Operator, Inc.

[Docket No. ER02-1420-005]

Take notice that on September 13, 2002, a letter was submitted on behalf of Southwestern Electric Power Company (SWEPCO) and Public Service Company of Oklahoma (PSO), operating companies of the American Electric Power System (collectively AEP) in response to the Commission's Order issued in the above-referenced proceeding on May 31, 2002, regarding the status of the Memorandum of Understanding (MOU) between AEP, Southwest Power Pool (SPP) and the Midwest Independent Transmission System Operator, Inc. (Midwest ISO).

Comment Date: October 1, 2002.

8. Southern California Edison Company

[Docket No. ER02-2107-002]

Take notice that on September 16, 2002, Southern California Edison Company (SCE) tendered for filing a compliance filing in the above-referenced docket involving its transmission service agreement with the M-S-R Public Power Agency.

SCE states that a copy has been served on the Service List in this proceeding. Comment Date: October 7, 2002.

9. Southern California Edison Company

[Docket No. ER02-2119-002]

Take notice that on September 16, 2002, Southern California Edison Company (SCE) tendered for filing a revised rate sheet for FERC Electric Tariff, Substitute First Revised Original Volume No. 6, Service Agreement No. 10, the Interconnection Facilities Agreement (IFA) between SCE and Wildflower Energy LP (Wildflower). The purpose of this filing is to comply with the Commission's Order Conditionally Accepting Tariff Sheet for Filing, as Modified, and Establishing Hearing and Settlement Judge Procedures dated August 16, 2002 (Southern California Edison Company, 100 FERC ¶61,193).

Copies of this filing were served upon the Service List compiled by the Secretary in this docket.

Comment Date: October 7, 2002.

10. Cross-Sound Cable Company, LLC

[Docket No. ER02-2124-001]

Take notice that on September 16, 2002, Cross-Sound Cable Company, LLC (CSC LLC) tendered for filing a filing conforming the executed Interconnection Agreement between CSC LLC and the Long Island Power Authority to the requirements of Order No. 614. CSC LLC requests an effective date of July 1, 2002.

Comment Date: October 7, 2002.

11. Maine Electric Power Company

[Docket No. ER02-2128-001]

Take notice that on September 16, 2002 , Maine Electric Power Company (MEPCO) tendered for filing a Support Services Agreement for support services provided by MEPCO to CMP, and designated as Original Rate Schedule FERC No. 200.

Comment Date: October 7, 2002.

12. Virginia Electric and Power Company

[Docket No. ER02-2537-001]

Take notice that on September 17, 2002, Virginia Electric and Power Company (the Dominion Virginia Power or Company), respectfully tendered for filing an amendment to its filing in this procedure.

Copies of the filing were served upon the Virginia State Corporation Commission, the North Carolina Utilities Commission, Washington Gas Energy Services, Old Mill Power Company, Dominion Retail, Inc., AES New Energy, Inc., and Old Dominion Electric Cooperative.

Comment Date: October 8, 2002.

13. Consumers Energy Company

[Docket No. ES02-36-002]

Take notice that on September 17, 2002, Consumers Energy Company submitted a request for waiver of the Commission's competitive bidding and negotiated placement requirements at 18 CFR 34.2 for securities to be issued pursuant to authorization already granted.

Comment Date: October 3, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-24427 Filed 9-26-02; 8:45 am]

BILLING CODE 6717-01-P